DEPARTMENT OF ENERGY

Federal Energy Regulatory Commission

Notice of Application Ready for Environmental Analysis and Soliciting Comments, Recommendations, Terms and Conditions, and Prescriptions

November 3, 2003.

Take notice that the following hydroelectric application has been filed with the Federal Energy Regulatory Commission (Commission) and is available for public inspection.

a. Type of Application: New License Application.

b. Project No.: 2726-012.

c. Date Filed: July 29, 2002.

d. Applicants: Idaho Power Company.

e. Name of Project: Upper and Lower Malad Hydroelectric Project.

f. Location: The project is located on the Malad River in Gooding County, Idaho, near the town of Hagerman. The project does not occupy any federal lands.

g. Filed Pursuant to: Federal Power Act, 16 U.S.C. 791(a)-825(r).

h. Applicant Contacts: Mr. Lewis Wardle, Project Manager, Hydro Relicensing Department, Idaho Power Company, PO Box 70, Boise, ID 83707, (208) 388-2964.

i. FERC Contact: Any questions on this notice should be addressed to John Blair at (202) 502-6092 or e-mail at john.blair@ferc.gov.

j. Deadline for filing comments, recommendations, terms and conditions, and prescriptions: 60 days from the issuance of this notice.

All documents (original and eight copies) should be filed with: Magalie R. Salas, Secretary, Federal Energy Regulatory Commission, 888 First Street, NE., Washington, DC 20426.

The Commission's Rules of Practice require all interveners filing documents with the Commission to serve a copy of that document on each person on the official service list for the project. Further, if interveners file comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site (www.ferc.gov) under the “e-Filing” link.

k. This application has been accepted and is ready for environmental analysis at this time.

l. The existing upper development consists of: (1) A concrete diversion dam consisting of a 100-foot-long gated spillway section and a 44-foot-wide flume intake section; (2) an impoundment approximately 0.9 acre in surface area having a total volume of about 5 acre-feet; (3) a 4,635-foot-long, 15-foot-wide concrete flume having an 80-foot-long overflow spillway with three reject siphons located 304.5 feet upstream of the penstock intake structure; (4) a 105-foot-long, 5-foot-high diversion dam diverting Cove Creek flows to the flume via a 90-foot-long, 3-foot-radius semi-circular steel aqueduct; (5) an 80.5-foot-long, 21-foot-wide concrete intake structure; (6) a 238-foot-long, 10-foot-diameter welded steel penstock; (7) a reinforced concrete powerhouse containing one vertical Francis turbine generator having an installed capacity of 8.27 megawatts (MW); (8) a 0.76-mile-long, 46-kilovolt transmission line running from the powerhouse to the Hagerman substation; and (9) appurtenant facilities.

The existing lower development consists of: (1) A concrete diversion dam located immediately downstream of the upper development powerhouse consisting of a 163-foot-long gated spillway section and a 56-foot-wide flume intake section; (2) an impoundment approximately 0.7 acre in surface area having a total volume of about 5 acre-feet; (3) a 5,318-foot-long, 17-foot-wide concrete flume having a 250-foot-long reject overflow spillway located 2,194 feet upstream of the penstock intake structure and a reject overflow structure located 157 feet upstream of the penstock intake structure; (4) an 85-foot-long, 23-foot-wide concrete intake structure; (5) a 301-foot-long, 12-foot-diameter welded steel penstock; (6) a reinforced concrete powerhouse containing one vertical Francis turbine generator having an installed capacity of 13.5 MW; and (7) appurtenant facilities.

m. A copy of the application is available for review at the Commission in the Public Reference Room or may be viewed on the Commission's Web site at www.ferc.gov using the eLibrary link. Enter the docket number excluding the last three digits in the docket number field to access the document. For assistance, call (866) 208-3676 or for TTY, call (202) 502-8659. A copy is also available for inspection and reproduction at the address in Item h above.

n. The Commission directs, pursuant to section 4.34(b) of the Regulations (see Order No. 533 issued May 8, 1991, 56 FR 23108, May 20, 1991) that all comments, recommendations, terms and conditions and prescriptions concerning the application be filed with the Commission within 60 days from the issuance date of this notice.

Anyone may obtain an extension of time for these deadlines from the Commission only upon a showing of good cause or extraordinary circumstances in accordance with 18 CFR 385.2008.

All filings must (1) bear in all capital letters the title “COMMENTS,” “REPLY COMMENTS,” “RECOMMENDATIONS,” “TERMS AND CONDITIONS,” or “PRESCRIPTIONS”; (2) set forth in the heading the name of the applicant and the project number of the application to which the filing responds; (3) furnish the name, address, and telephone number of the person submitting the filing; and (4) otherwise comply with the requirements of 18 CFR 385.2001 through 385.2005. All comments, recommendations, terms and conditions, or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

o. Procedural schedule and final amendments: The application will be processed according to the following Hydro Licensing Schedule. Revisions to the schedule will be made as appropriate.

Notice of the availability of the draft EA: April 2004

Initiate 10(j) process: April 2004

Notice of the availability of the final EA: August 2004

Ready for Commission decision on the application: October 2004

Final amendments to the application must be filed with the Commission no later than 30 days from the issuance date of the notice of ready for environmental analysis.

Magalie R. Salas,
Secretary.

[FR Doc. E3-00183 Filed 11-7-03; 8:45 am]

BILLING CODE 6717-01-P